DEPARTMENT OF JUSTICE

Notice of Lodging of Proposed Consent Decree Under the Comprehensive Environmental Response, Compensation, and Liability Act

On September 4, 2024, the Department of Justice lodged a proposed Consent Decree with the United States District Court for the District of New Jersey in the lawsuit entitled United States, et al. v. NL Industries, Inc., et al., Civil Action No. 3:24-cv-8946 and NL Industries, Inc., et al. v. Old Bridge Township, et al., Civil Action No. 13-cv-3493 MAS (D. New Jersey).

The proposed Consent Decree would resolve the affirmative claims of the United States in United States, et al. v. NL Industries, Inc., et al., Civil Action No. 3:24-cv-8946, on behalf of the United States Environmental Protection Agency (“EPA”), the United States Department of the Interior (“DOI”), and the National Oceanic and Atmospheric Administration (“NOAA”); and the State of New Jersey, including New Jersey Department of Environmental Protection (“NJDEP”), the Commissioner of the New Jersey Department of Environmental Protection, and the Administrator of the New Jersey Spill Compensation Fund (collectively, the “State Plaintiffs”); and the following parties: NL Industries, Inc., Old Bridge Township, New Jersey, Atlantic Battery Co., Inc., Atlantic Richfield Co., Bixon Liquidation Corp., C&D Technologies, Inc., Clarios, LLC, Crown Battery Manufacturing Co., East Penn Manufacturing Co., EnerSys Delaware, Inc., E. I. du Pont de Nemours and Co., (n/k/a EIDP, Inc.), FMC Corp., Gould Electronics Inc., Honeywell International, Inc., Joe Krentzman & Son, Inc., Johnson Controls, Inc., Rae Storage Battery Co., Tiffen Acquisition Corp., Tiffen Co., LLC, Rio Tinto Minerals Inc., Rio Tinto Metals Limited, Rio Tinto plc, Wimco Metals, Inc., and Yuasa Battery, Inc., (collectively referred to as “Defendants” herein), regarding the Raritan Bay Slag Superfund Site in Old Bridge Township and Borough of Sayreville, New Jersey (“Site”). The Consent Decree will also resolve all claims regarding the Site, including but not limited to contribution claims, between and amongst the United States on behalf of the General Services Administration and the Department of Defense, including but not limited to the U.S. Army Corps of Engineers, the State and Defendants, including those in the action NL Industries, Inc. v. Old Bridge Township, et al., 13-cv-03493 MAS (D. New Jersey).

Under the Proposed Consent Decree $151.1 million will be paid to the United States and State Plaintiffs by Defendants, as well as settling federal and state agencies. From the $151.1 million, EPA will receive $132.3 million as reimbursement for past costs and to pay for the remaining cleanup work at the Site, and $18.7 million will go towards restoration of natural resource damages and assessment costs by Federal Trustees, NOAA and DOI, and State Trustee, NJDEP. In exchange, Defendants and settling federal and state agencies will receive contribution protection and covenants not to sue under Sections 106, 107(a) and 113 of the Comprehensive Environmental Response, Compensation, and Liability Act of 1980, as amended, 42 U.S.C. 9606, 9607(a) and 9613 (“CERCLA”), the Spill Compensation and Control Act (the “Spill Act”), N.J.S.A. 58:10-23.11 through -23.24, the Water Pollution Control Act (the “WPCA”), N.J.S.A. 58:10A-1 through -20, and the Solid Waste Management Act, N.J.S.A. 13:1E-1 through -227, for the Site.

The publication of this notice opens a period for public comment on the Consent Decree. Comments should be addressed to the Assistant Attorney General, Environment and Natural Resources Division, and should refer to United States, et al. v. NL Industries, Inc., et. al., Civil Action No. 3:24-cv-8946, D.J. Ref. No. 90-11-3-10954 and NL Industries, Inc. et al., v. Old Bridge Township, et al., Civil Action No. 13-cv-3493 MAS (D. New Jersey), D.J. Ref. No. 90-11-6-19872. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

NJDEP, in accordance with N.J.S.A 58:10-23.11e2 of the Spill Act will also publish notice of the proposed Consent Decree in the New Jersey Register and on NJDEP's website for a period of 60 days. Comments that are submitted to the Department will be shared with the State for consideration and will not need to be resubmitted.

During the public comment period, the Consent Decree may be examined and downloaded at this Justice Department website: https://www.justice.gov/enrd/consent-decrees. If you require assistance accessing the proposed Consent Decree, you may request assistance by email or by mail to the addresses provided above for submitting comments.

Eric D. Albert,
Assistant Section Chief, Environmental Enforcement Section, Environment and Natural Resources Division.

[FR Doc. 2024-20336 Filed 9-9-24; 8:45 am]

BILLING CODE 4410-15-P